DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy.

The following inventions are available for licensing: Navy Case No. 102004: Symmetric schema instantiation method for use in a case-based reasoning system//Navy Case No. 102005: Process of fabricating transparent interferometric visible spectrum modulator//Navy Case No. 102010: System and method for producing a sample having a monotonic doping gradient of a diffusive constituent or interstitial atom or molecule//Navy Case No. 102018: Transmission security method using random chirp rate modulation//Navy Case No. 102019: System and method for acceleration effect correction using turbo-encoded data with cyclic redundancy check//Navy Case No. 102027: Correlated GPS pseudo range error estimation method//Navy Case No. 102041: Automated process for synthesis of carbon nanotubes in air//Navy Case No. 102059: Surface sediment core catcher//Navy Case No. 102077: Reinforcement learning-based distributed network routing method utilizing integrated tracking and selective sweeping//Navy Case No. 102084: Method for creating free standing nano-perforated graphene filter//Navy Case No. 102095: Method for determining the rotation rate of a resonator using a periodic frequency comb//Navy Case No. 102144: Coherent wideband channel generation from multiple received channels//Navy Case No. 102146: Flexible, low profile kink resistant fiber optic spice tension sleeve//Navy Case No. 102148: Acoustic airspeed measurement system and method//Navy Case No. 102179: Dipole moment term for an electrically small antenna//Navy Case No. 102193: Method and apparatus for measurement of physical properties of matter under simultaneous control of radio frequency and variable temperatures//Navy Case No. 102215: Sensor signal processing using cascade coupled oscillators//Navy Case No. 102247: Ping control optimization method for multi-static active acoustic networks//Navy Case No. 102274: Reduced profile leaky wave antenna//Navy Case No. 102285: Bearing-only tracking for horizontal linear arrays with rapid, accurate initiation and a robust track accuracy threshold//Navy Case No. 102297: 2D arrays of diamond shaped cells having multiple Josephson junctions//Navy Case No. 102300: Composable situational awareness visualization system//Navy Case No. 102316: Non-data-aided joint time and frequency offset estimation method for OFDM systems using channel order based regression//Navy Case No. 102389: Steerable parasitic antenna array//Navy Case No. 102478: Beta voltaic semiconductor diode fabricated from a radioisotope//Navy Case No. 102533: Method of maintaining an ad hoc communications network between a base and a mobile platform//Navy Case No. 102552: Noise-assisted reprogrammable nanomechanical logic gate and method//Navy Case No. 102560: System for amplifying flow-induced vibration energy using boundary layer and wake flow control//Navy Case No. 102585: Magnetic microparticles used for extraction of chemical and biological agents//Navy Case No. 102591: Buoyancy assisted motor-generator//Navy Case No. 102601: Bacteria identification by phage induced impedance fluctuation analysis//Navy Case No. 102603: Method for bathymetric navigation chart validation//Navy Case No. 102604: Algorithm for extraction of atmospheric channel parameters based on imaging theory and image quality//Navy Case No. 102678: Variable buoyancy buoy and deployment methods//Navy Case No. 102679: Self-stabilizing buoy and deployment methods//Navy Case No. 102776: Device for maximizing packing density with cylindrical objects in cylindrical cavities//Navy Case No. 102777: Method of extrinsic camera calibration utilizing a laser beam//Navy Case No. 102778: Thermal stabilization method for silicon circuits//Navy Case No. 102786: Systems and methods for real-time horizon detection in images//Navy Case No. 102880: Communication assets survey and mapping tool//Navy Case No. 102901: Method for analyzing GUI design affordances//Navy Case No. 102903: Biased estimation of symbol timing offset in OFDM systems//Navy Case No. 102955: Layered superconductor device.

ADDRESSES: Request for copies of invention disclosures cited should be directed to Space and Naval Warfare Systems Center Pacific, Office of Research and Technology Applications, Code 72120, 53560 Hull St., Bldg. A33, Room 2531, San Diego, CA 92152-5001.

FOR FURTHER INFORMATION CONTACT: Brian Suh, Office of Research and Technology Applications, Space and Naval Warfare Systems Center Pacific, Code 72120, 53560 Hull St., Bldg. A33, Room 2531, San Diego, CA 92152-5001, telephone 619-553-5118, E-Mail: brian.suh@navy.mil.

Authority: 35 U.S.C. 207, 37 CFR Part 404.

Dated: June 6, 2014.
P.A. Richelmi,
Lieutenant, Office of the Judge Advocate General, U.S. Navy, Alternate Federal Register Liaison Officer.

[FR Doc. 2014-13572 Filed 6-10-14; 8:45 am]

BILLING CODE 3810-FF-P